DEPARTMENT OF THE TREASURY

Government Securities: Call for Large Position Reports

AGENCY: Office of the Assistant Secretary for Financial Markets, Treasury.

ACTION: Notice of call for Large Position Reports.

SUMMARY: The U.S. Department of the Treasury (“Department” or “Treasury”) called for the submission of Large Position Reports by those entities whose positions in the 2¼% Treasury Notes of April 2024 equaled or exceeded $4.1 billion as of Tuesday, April 30, 2019 and/or Friday, May 3, 2019.

DATES: Large Position Reports must be received by 5:00 p.m. Eastern Time on June 10, 2019.

ADDRESSES: The reports must be submitted to Treasury and may be faxed to Treasury at (202) 504-3788 or hand-delivered to the Government Securities Dealer Statistics Unit of the Federal Reserve Bank of New York at 33 Liberty Street, 6th Floor, New York, NY.

FOR FURTHER INFORMATION CONTACT: Lori Santamorena, Kurt Eidemiller, Kevin Hawkins, or John Garrison; Government Securities Regulations Staff, Department of the Treasury, at 202-504-3632.

SUPPLEMENTARY INFORMATION: In a public announcement issued on June 3, 2019, and in this Federal Register notice, Treasury called for Large Position Reports from entities whose positions in the 2¼% Treasury Notes of April 2024 equaled or exceeded $4.1 billion as of Tuesday, April 30, 2019 and/or Friday, May 3, 2019. Entities must submit separate reports for each reporting date on which their positions equaled or exceeded the $4.1 billion reporting threshold. Entities with positions in these notes below this reporting threshold are not required to submit Large Position Reports.

This call for Large Position Reports is pursuant to Treasury's large position reporting rules under the Government Securities Act regulations (17 CFR part 420), promulgated pursuant to 15 U.S.C. 780-5(f). Reports must be received by Treasury before 5:00 p.m. Eastern Time on Monday, June 10, 2019, and must include the required position and administrative information. The reports may be faxed to Treasury at (202) 504-3788 or hand-delivered to the Government Securities Dealer Statistics Unit of the Federal Reserve Bank of New York at 33 Liberty Street, 6th Floor.

The 2¼% Treasury Notes of April 2024, Series Y-2024, have a CUSIP number of 9128286R6, a STRIPS principal component CUSIP number of 912821BX2, and a maturity date of April 30, 2024.

The public announcement, a copy of a sample Large Position Report which appears in appendix B of the rules at 17 CFR part 420, and supplementary formula guidance are available at www.treasurydirect.gov/instit/statreg/gsareg/gsareg.htm.

Non-media questions about Treasury's large position reporting rules and the submission of Large Position Reports should be directed to Treasury's Government Securities Regulations Staff at (202) 504-3632 or govsecreg@fiscal.treasury.gov.

The collection of large position information has been approved by the Office of Management and Budget pursuant to the Paperwork Reduction Act under OMB Control Number 1530-0064.

Brian Smith,
Deputy Assistant Secretary for Federal Finance.

[FR Doc. 2019-11862 Filed 6-3-19; 4:15 pm]

BILLING CODE 4810-AS-P